DEPARTMENT OF DEFENSE

Department of the Air Force

Active Duty Service Determinations for Civilian or Contractual Groups

AGENCY: Department of the Air Force.

ACTION: Notice.

SUMMARY: On May 1, 2007, the Secretary of the Air Force, acting as Executive Agent of the Secretary of Defense, determined that the service of the groups known as:

a. The U.S. and Foreign Civilian Employees of CAT, Inc., Who Operated in Korea Under Operation Book Lift During 1950 and 1951 and Any Ground Support Personnel Necessary to Support That Mission;

b. The U.S. and Foreign Civilian Employees of CAT, Inc., Who Operated Air Force C-119 Aircraft to Drop Ammunition and Other Supplies to French Troops at Dien Bien Phu in 1954 and Any Ground Support Personnel Necessary to Support that Mission;

c. The U.S. and Foreign Civilian Employees of CAT, Inc., Who Operated B-26 Aircraft in Indonesia From 1958 Through 1962, and Any Ground Support Personnel Who Supported That Mission:

d. The U.S. and Foreign Civilian Employees of Air America, Inc., who Operated Fixed Wing or Helicopter Aircraft in Support of U.S. Army Special Forces in Laos as Part of Operation Hot Foot and Operation White Star From 1959 Through 1962, and in Support of Operation Mill Pond, the Airlift from Thailand to Tibet, and Any Ground Support Personnel Necessary to Support Those Missions;

e. The U.S. and Foreign Civilian Employees of Air America, Inc., Who Operated Fixed Wing or Helicopter Aircraft in Direct Support of the U.S. Air Force Operating in Laos in the Steve Canyon Program (Ravens), the Site 85 Operation, Photo Reconnaissance, the Harp (sic) Program, and Search and Rescue (SAR) Operations for U.S. Military Flight Crews from 1964 Through 1974, and Any In-Country Ground Support Personnel, Who Were Necessary to Support Those Missions and Held Supervisory Positions; and

f. The U.S. and Foreign Civilian Employees of Air America, Inc., Who Operated Fixed Wing or Helicopter Aircraft in Vietnam in Direct Support of the U.S. Army Special Forces from 1964 through 1975, and Any In-Country Ground Support Personnel, Who Were Necessary to Support those Missions and Held Supervisory Positions shall not be considered “active duty” for purposes of all laws administered by the Department of Veterans Affairs (VA).

FOR FURTHER INFORMATION CONTACT: Mr. James D. Johnston at the Secretary of the Air Force Personnel Council (SAFPC); 1535 Command Drive, EE Wing, 3d Fl.; Andrews AFB, MD 20762-7002.

Bao-Anh Trinh,
Air Force Federal Register Liaison Officer.

[FR Doc. E7-10102 Filed 5-24-07; 8:45 am]

BILLING CODE 5001-05-P